DEPARTMENT OF HOMELAND SECURITY

8 CFR Part 214

[DHS Docket No. ICEB-2021-0016]

Removal of Obsolete Procedures and Requirements Related to F, J, and M Nonimmigrants; Corrections

AGENCY: U.S. Immigration and Customs Enforcement, Department of Homeland Security.

ACTION: Correcting amendments.

SUMMARY: On December 12, 2022, the Department of Homeland Security (DHS) issued an interim final rule, Removal of Obsolete Procedures and Requirements Related to F, J, and M Nonimmigrants, that inadvertently contained inaccurate amendatory instructions so that the revisions in the 2022 rule could not be made to the Code of Federal Regulations (CFR). This document corrects the CFR.

DATES: Effective on August 9, 2023.

FOR FURTHER INFORMATION CONTACT: Sharon Snyder, Policy and Response Unit Chief, Student and Exchange Visitor Program; U.S. Immigration and Customs Enforcement; 500 12th Street SW, Stop 5600; Washington, DC 20536-5600; or by email at sevp@ice.dhs.gov or telephone at 703/603-3400.

SUPPLEMENTARY INFORMATION: On December 12, 2022, DHS issued an interim final rule, Removal of Obsolete Procedures and Requirements Related to F, J, and M Nonimmigrants (87 FR 75891), that inadvertently contained inaccurate amendatory instructions so that the revisions in the 2022 rule could not be made to the Code of Federal Regulations (CFR). This document corrects the CFR.

List of Subjects in 8 CFR Part 214

Administrative practice and procedure, Aliens, Cultural exchange program, Employment, Foreign officials, Health professions, Reporting and recordkeeping requirements, Students.

Accordingly, DHS corrects 8 CFR part 214 by making the following correcting amendments:

PART 214—NONIMMIGRANT CLASSES

1. The authority citation for part 214 continues to read as follows:

Authority: 6 U.S.C. 202, 236; 8 U.S.C. 1101, 1102, 1103, 1182, 1184, 1186a, 1187, 1221, 1281, 1282, 1301-1305, 1357, and 1372; sec. 643, Pub. L. 104-208, 110 Stat. 3009-708; Pub. L. 106-386, 114 Stat. 1477-1480; section 141 of the Compacts of Free Association with the Federated States of Micronesia and the Republic of the Marshall Islands, and with the Government of Palau, 48 U.S.C. 1901 note and 1931 note, respectively; 48 U.S.C. 1806; 8 CFR part 2; Pub. L. 115-218, 132 Stat. 1547 (48 U.S.C. 1806).

§ 214.1 [Amended]

2. Amend § 214.1 in paragraph (b)(3)(iv) by removing the phrase “the alien's Form I-20 ID copy, and a properly endorsed page 4 of Form I-20M-N” and adding in its place “and the alien's properly endorsed Form I-20 or successor form”.

§ 214.2 [Amended]

3. Amend § 214.2 as follows:

a. In paragraph (f)(9)(i), remove “* * *”.

b. In paragraph (f)(13)(i), remove “his or her I-20 ID” and add in its place “their Form I-20 or successor form”.

c. In paragraph (m)(14)(vi), remove “the Service” wherever it appears and “print” and add in their place “USCIS” and “generate a”, respectively.

§ 214.3 [Amended]

4. Amend § 214.3 in paragraph (c)(1) as follows:

a. Add a comma after “Secretary of of Homeland Security”.

b. Remove the phase “vocational or recreational” and add in its place “avocational or recreational”.

§ 214.4 [Amended]

5. Amend § 214.4 as follows:

a. In paragraphs (a)(2)(x), (xi), (xviii), and (xix) by removing “Forms I-20” and add in its place “Form I-20 or successor form”.

b. In paragraph (i)(1) by removing “Forms I-20” and add in its place “Form I-20”.

Alejandro N. Mayorkas,
Secretary, U.S. Department of Homeland Security.

[FR Doc. 2023-17043 Filed 8-8-23; 8:45 am]

BILLING CODE 9111-28-P